ENVIRONMENTAL PROTECTION AGENCY

[EPA-HQ-OPPT-2019-0075; FRL-9992-79]

Certain New Chemicals; Receipt and Status Information for May 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 05/01/2019 to 05/31/2019.

DATES: Comments identified by the specific case number provided in this document must be received on or before August 8, 2019.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 05/01/2019 to 05/31/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 05/01/2019 to 05/31/2019
Case No. | Version | Received date | Manufacturer | Use | Chemical substance
P-16-0439A | 6 | 5/21/2019 | CBI | (G) Coloring agent | (G) Carbon black, (organic acidic carbocyclic)-modified, inorganic salt.
P-16-0440A | 6 | 5/21/2019 | CBI | (G) Coloring agent | (G) Carbon black, (organic acidic carbocyclic)-modified, metal salt.
P-17-0024A | 3 | 4/25/2019 | CBI | (G) Urethane component | (G) aromatic isocyanate, polymer with alkyloxirane polymer with oxirane ether with alkyldiol (2:1), and alkyloxirane polymer with oxirane ether with alkyltrioll (3:1).
P-17-0025A | 3 | 4/25/2019 | CBI | (G) Urethane component | (G) aromatic isocyanate polymer with alkyloxirane, alkyloxirane polymer with oxirane ether with alkanetriol and oxirane.
P-17-0109A | 4 | 5/2/2019 | Air Products and Chemicals | (S) Intermediate for Polyurethane Catalyst; Polyurethane catalyst | (G) Alkyldiamine, aminoalkyl dimethylaminoalkyl dimethyl-.
P-17-0172A | 5 | 5/28/2019 | CBI | (G) Lubricating oil additive | (G) Sulfurized alkylphenol, calcium salts.
P-17-0278A | 4 | 5/7/2019 | CBI | (G) Component in asphalt emulsions | (G) Fatty acid derived imidazoline salts.
P-17-0279A | 4 | 5/7/2019 | CBI | (G) Component in asphalt emulsions | (G) Fatty acid derived imidazoline salt.
P-17-0280A | 4 | 5/7/2019 | CBI | (G) Component in asphalt emulsions | (G) Fatty acid derived imidazoline salt.
P-17-0284A | 5 | 5/3/2019 | Monument Chemical Houston, Ltd | (G) In-process intermediate | (S) 2-Heptanone, 4-hydroxy-.
P-17-0285A | 5 | 5/3/2019 | Monument Chemical Houston, Ltd | (G) In-process intermediate | (S) 4-Hepten-2-one.
P-17-0322A | 7 | 5/22/2019 | CBI | (G) Auxiliary drier, has little drying action in itself but is very useful in combination with active driers. In vehicles that show poor tolerance for lead, calcium can replace part of the lead with a larger amount of calcium to prevent the precipitation of the lead & maintain drying efficiency. Calcium is also useful as pigment wetting & dispersing agents & help to improve hardness & gloss & reduce “Silkins“. When ground with drier adsorbing pigments, Calcium minimizes loss of dry by being preferentially absorbed | (G) Zinc naphthenate complexes.
P-17-0325A | 8 | 5/9/2019 | Cekal Specialties, Inc | (S) Used in textile industry in bleaching and dyeing operations as a dispersing agent, for professional use according to the instructions in the Technical Bulletin | (S) 2-Propenoic acid, polymer with 2-methyl-2-((1-oxo-2-propenyl)amino)-1-propanesulfonic acid.
P-17-0333A | 5 | 5/2/2019 | Miwon North America, Inc | (S) Reactive diluent for optical film coating | (G) 2-Propenoic acid, mixed esters with heterocyclic dimethanol and heterocyclic methanol.
P-17-0376A | 6 | 5/17/2019 | Innovative Chemical Technologies, Inc | (S) Textile additive | (G) 2-Propenoic acid, 2-methyl-, 2-hydroxyethyl ester polymer with hexadecyl 2-propenoate, octadecyl 2-propenoate and 3,3,4,4,5,5,6,6,7,7,8,8,8-tridecasubstitutedoctyl 2-propenoate.
P-17-0377A | 6 | 5/17/2019 | Innovative Chemical Technologies, Inc | (S) Textile Additive | (G) 2-Propenoic acid, 2-methyl-, 2-hydroxyethyl ester, polymer with hexadecyl 2-propenoate, octadecyl 2-propenoate and 3,3,4,4,5,5,6,6,7,7,8,8,8-tridecasubstitutedoctyl 2-methyl-2-propenoate.
P-17-0378A | 6 | 5/17/2019 | Innovative Chemical Technologies, Inc | (S) Textile additive | (G) 2-Propenoic acid, 2-methyl-, hexadecyl ester, polymer with 2-hydroxyethyl 2-methyl-2-propenoate, octadecyl 2-methyl-2-propenoate and 3,3,4,4,5,5,6,6,7,7,8,8,8-tridecasubstitutedoctyl 2-propenoate.
P-17-0379A | 6 | 5/17/2019 | Innovative Chemical Technologies, Inc | (S) Textile Additive | (G) 2-Propenoic acid, 2-methyl-, hexadecyl ester, polymer with 2-hydroxyethyl 2-methyl-2-propenoate, octadecyl 2-methyl-2-propenoate and 3,3,4,4,5,5,6,6,7,7,8,8,8-tridecasubstitutedoctyl 2-methyl-2-propenoate.
P-18-0018A | 4 | 5/10/2019 | Kyodo Yushi USA, Inc | (G) Lubricant | (G) Fluorinated acrylate, polymer with alkyloxirane homopolymer monoether with alkanediol mono(2-methyl-2-propenoate), tert-Bu 2-ethylhexaneperoxoate-initiated.
P-18-0128A | 3 | 5/13/2019 | CBI | (G) Surface modifier | (S) Inulin, 2-hydroxy-3-(trimethylammonio)propyl ether, chloride.
P-18-0151A | 5 | 5/9/2019 | Struers, Inc | (S) A curing agent for curing epoxy systems | (S) Formaldehyde, reaction products with 1,3-benzenedimethanamine and p-tert-butylphenol.
P-18-0177A | 2 | 5/21/2019 | Clariant Plastics & Coatings USA, Inc | (S) Lubricant and surface protection agent | (S) Waxes and Waxy substances, rice bran, oxidized.
P-18-0192A | 2 | 5/28/2019 | Archroma U.S., Inc | (S) Optical brightener for use in paper applications | (G) Benzenesulfonic acid, (alkenediyl)bis[[[(hydroxyalkyl)amino]-(phenylamino)-triazin-2-yl]amino]-, N-(hydroxyalkyl) derivs., salts, compds. with polyalkyl-substituted(alkanol).
P-18-0213A | 2 | 5/17/2019 | CBI | (S) Polyester or polyamide modifier incorporated into backbone of polymer | (S) 1,3-Benzenedicarboxylic acid, 5-sulfo-, calcium salt (2:1).
P-18-0214A | 2 | 5/28/2019 | CBI | (G) Curing agent | (G) Polycyclic substituted alkane, polymer with cyclicalkylamine, epoxide, and polycyclic epoxide ether, reaction products with dialkylamine substituted alkyl amine.
P-18-0215A | 2 | 5/28/2019 | CBI | (G) Curing agent | (G) Polycyclic alkane, polymer with monocyclic amine, polycyclic epoxide ether, reaction products with dialkylamine alkyl amine.
P-18-0216A | 2 | 5/28/2019 | CBI | (G) Curing agent | (G) Polycyclic substituted alkane, polymer with epoxide, reaction products with cyclicalkylamine and dialkylamine substituted alkyl amine.
P-18-0220A | 2 | 5/9/2019 | Allnex USA, Inc | (S) UV Curable Coating Resin | (G) Heteromonocycle [(alkylalkylidene)bis(substituted carbomoncycle)]bis-, polymer with alkyl isocyanate, alkenoate (ester).
P-18-0239A | 2 | 5/21/2019 | CBI | (G) Reactant in coating | (G) N-alkyl propanamide.
P-18-0240A | 2 | 5/21/2019 | CBI | (G) Reactant in coating | (G) N-alkyl acetamide.
P-18-0267A | 2 | 5/28/2019 | CBI | (G) Curing agent | (G) Branched alkanoic acid, epoxy ester, reaction products with monocyclic dialkylamine and polycyclic alcohol epoxy polymer.
P-18-0268A | 2 | 5/28/2019 | CBI | (G) Curing agent | (G) Branched alkanoic acid, epoxy ester, reaction products with monocyclicdialkanamine and polycyclic dialkanol ether polymer.
P-18-0269A | 2 | 5/28/2019 | CBI | (G) Curing agent | (G) Branched alkanoic acid, epoxy ester, reaction products with monocyclicalkanamine, polycyclic alcohol ether homopolymer, and polycyclic alcohol epoxy polymer.
P-18-0288A | 2 | 5/15/2019 | Ungerer and Company | (S) Degreasing solvent | (G) Alkyl carbobicycle, manuf. of, byproducts from, isomerized.
P-18-0326A | 5 | 5/20/2019 | CBI | (G) Chemical Intermediate | (G) Alkanoic acid, alkyl ester, manuf. of, byproducts from, distn. residues.
P-18-0349A | 2 | 5/8/2019 | Lanxess Solutions US, Inc | (S) Two component adhesives and protective coatings for marine, infrastructure, etc | (S) Oxirane, 2-methyl-, polymer with oxirane, ether with 1,2,3-propanetriol (3:1), polymer with 2,4-diisocyanato-1-methylbenzene, branched 4-nonylphenol-blocked.
P-18-0349A | 3 | 5/23/2019 | Lanxess Solutions US, Inc | (S) Two component adhesives and protective coatings for marine, infrastructure, etc. The urethane prepolymer is designed to react with epoxy materials to create a flexible coating or adhesive | (S) Oxirane, 2-methyl-, polymer with oxirane, ether with 1,2,3-propanetriol (3:1), polymer with 2,4-diisocyanato-1-methylbenzene, branched 4-nonylphenol-blocked.
P-18-0399A | 5 | 5/24/2019 | CBI | (G) Open, non-dispersive use additive for industrial use only | (G) Rosin adduct ester, polymer with polyols, compd. with ethanolamine.
P-18-0400A | 5 | 5/24/2019 | CBI | (G) Open, non-dispersive use, additive for textile industry | (G) Rosin adduct ester, polymer with polyols, potassium salt.
P-19-0019A | 3 | 4/26/2019 | CBI | (G) Intermediate | (G) Haloalkane.
P-19-0028A | 7 | 4/29/2019 | CBI | (G) Lubricating oil additive | (G) Alkyl salicylate, metal salts.
P-19-0031A | 7 | 5/2/2019 | CBI | (S) Curing agent for epoxy coating systems | (G) Phenol, 4,4′-(1-methylethylidene)bis-, polymer with formaldehyde, 2-(chloromethyl)oxirane, alpha-hydro-omega-hydroxypoly(oxy-1,2-ethanediyl), and polyamines.
P-19-0046A | 3 | 5/2/2019 | Kluber Lubrication North America, L.P | (G) Lubricating agent, (G) Degreasing agent | (S) 1,2,4-Benzenetricarboxylic acid, mixed decyl and octyl triesters.
P-19-0052A | 4 | 5/3/2019 | Evonik Corporation | (S) Hard Surface Cleaner, (S) Component of Laundry Detergent | (S) Poly(oxy-1,2-ethanediyl), alpha-nonyl-omega-hydroxy-, branched and linear.
P-19-0053A | 4 | 5/5/2019 | Wacker Chemical Corporation | (S) Used as a surface treatment, sealant, caulk, and coating for mineral building materials such as concrete, brick, limestone, and plaster, as well as on wood, metal and other substrates. Formulations containing the cross-linker provide release and anti-graffiti properties, water repellency, weather proofing, and improved bonding in adhesive/sealant applications. The new substance is a moisture curing cross-linking agent which binds/joins polymers when cured. Ethanol is released during curing, and once the cure reaction is complete, the product will remain bound in the cured polymer matrix | (S) 1-Butanamine, N-butyl-N-[(triethoxysilyl)methyl]-.
P-19-0067A | 5 | 5/10/2019 | CBI | (G) Production of oil soluble corrosion inhibitors, (G) On site consumption as a raw material in the production of downstream chemicals, (G) Production of water soluble corrosion inhibitors. | (G) Triglyceride, reactions products with diethylenetriamine
P-19-0074A | 3 | 5/24/2019 | CBI | (G) Swelling agent for the dyeing of polyester and blend fibers | (G) Poly(oxyalkylenediyl), carbomonocyclic acid, 2-(aminocarbonyl)-alkyl.
P-19-0081 | 2 | 5/14/2019 | CBI | (G) Automotive lubricant additive | (G) 2-Propenoic acid, alkyl ester, reaction products with mixed substituted alkyl esters of phosphorodithioic acid and propylene oxide.
P-19-0082 | 1 | 5/3/2019 | Bedoukian Research, Inc | (S) Fragrance uses per FFDCA: Fine fragrance, creams, lotions, etc., (S) Fragrance uses per TSCA: Scented papers, candles, detergents, cleaners, etc | (S) Heptanal, 6-hydroxy-2,6-dimethyl-.
P-19-0083 | 1 | 5/9/2019 | KX Technologies, LLC | (G) Activated carbon for water purification | (G) Charcoal, coconut shell, reaction products with cyclic amine.
P-19-0084 | 2 | 5/15/2019 | CBI | (S) Flame retardant | (S) DIphosphoric acid, compd. with 1,3,5-triazine-2,4,6-triamine (1:2).
P-19-0085 | 1 | 5/10/2019 | Neste Oil US, Inc | (G) The PMN substance will be used as a functional fluid in electrical equipment | (G) Aliphatic hydrocarbons, C16-18-branched and linear.
P-19-0086 | 1 | 5/10/2019 | CBI | (G) Monitor oil and gas well performance | (G) Halogenated sodium alkylbenzoate.
P-19-0086A | 2 | 5/17/2019 | CBI | (G) Monitor oil and gas well performance | (G) Halogenated sodium alkylbenzoate.
P-19-0087 | 1 | 5/10/2019 | CBI | (G) Monitor oil-and-gas well performance | (G) Halogenated sodium alkylbenzoate.
P-19-0087A | 2 | 5/17/2019 | CBI | (G) Monitor oil-and-gas well performance | (G) Halogenated sodium alkylbenzoate.
P-19-0088 | 1 | 5/13/2019 | CBI | (G) Feedstock for amine recovery | (S) Ethanamine, N-ethyl-, 2-hydroxy-1,2,3-propanetricarboxylate (1:?).
P-19-0089 | 2 | 5/15/2019 | CBI | (G) Well performance tracer | (G) Halogenated sodium alkylbenzoate.
P-19-0089A | 3 | 5/24/2019 | CBI | (G) Well performance tracer | (G) Halogenated sodium alkylbenzoate.
P-19-0090 | 1 | 5/13/2019 | CBI | (G) Well performance tracer | (G) Halogenated sodium benzoate.
P-19-0090A | 2 | 5/14/2019 | CBI | (G) Well performance tracer | (G) Halogenated sodium benzoate.
P-19-0091 | 1 | 5/14/2019 | CBI | (G) Well performance tracer | (G) Halogenated alkylbenzoic acid.
P-19-0092 | 1 | 5/14/2019 | CBI | (G) Tracer of well performance | (G) Halogenated alkylbenzoic acid.
P-19-0093 | 2 | 5/14/2019 | CBI | (G) Tracer for well performance | (G) Halogenated benzoic acid.
P-19-0094 | 1 | 5/16/2019 | CBI | (S) Acrylate for use in UV coatings, inks, adhesives and photoresists | (G) 2-Propenoic acid, (carbopolycyclic)methyl ester.
SN-19-0005 | 1 | 5/20/2019 | Molecular Rebar Design | (G) Conductive ink | (S) Functionalized multiwall carbon nanotubes.
* The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 05/01/2019 to 05/31/2019
Case No. | Received date | Commencement date | If amendment, type of amendment | Chemical substance
J-19-0006 | 5/6/2019 | 4/11/2019 |  | (G) Genetically modified microorganism.
P-11-0139 | 5/15/2019 | 5/3/2019 |  | (G) Alkylene oxide adducts with glycerin.
P-14-0841 | 5/21/2019 | 4/6/2015 |  | (G) Alkylcarboxy, N,N′-[1,2-ethenediylbis[(3-sulfo-4,1-phenylene)imino[6-[(2,5-disulfophenyl)amino]-1,3,5-triazine-4,2-diyl]]]bis-, sodium salt, compd. with polyalkylammonium derivative.
P-15-0322A | 5/8/2019 | 9/26/2016 | Addition of substantiation for CBI claims | (G)Poly[oxy(alkanediyl)],.alpha.,.alpha.′,.alpha.″-1,2,3-propanetriyltris[.omega.-(2-hydroxy-3-mercaptopropoxy)-.
P-16-0446 | 5/21/2019 | 5/20/2019 |  | (G) Fatty acids, polymers with substituted carbomonocycle, substituted alkylamines, heteromonocycle, fatty acid and alkylamine, lactates (salts).
P-16-0532 | 5/14/2019 | 4/17/2019 |  | (G) Substituted heteromonocycle,.
P-17-0220 | 5/7/2019 | 4/27/2019 |  | (G) 2-oxepanone, reaction products with alkylenediamine-alkyleneimine polymer, 2-[[(2-alkyl)oxy]alkyl]oxirane and tetrahydro-2h-pyran-2-one.
P-17-0354A | 4/29/2019 | 2/4/2019 | Specific and generic chemical names updated | (G) (substituted-dialkyl(halo)silyl)alkanenitrile.
P-18-0129 | 5/28/2019 | 5/28/2019 |  | (S) Benzenepropanal, .alpha.,.alpha.,3-trimethyl-.
P-18-0169 | 5/3/2019 | 4/30/2019 |  | (G) Propanoic acid, 3-hydroxy-2-(hydroxymethyl)-2-methyl-, polymer with dimethyl carbonate, 1,6-hexanediol, diamine and 1,1′-methylenebis[4-isocyanatocyclohexane], pentaerythritol triacrylate-blocked, compds. with triethylamine.
P-18-0188 | 5/28/2019 | 5/24/2019 |  | (G) Alkyl substituted alkenoic acid, alkyl ester, polymer with alkanediol alkyl-alkenoate, reaction products with alkenoic acid, isocyanato-(isocyanatoalkyl)-alkyl substituted carbomonocycle and substituted alkanediol.
P-18-0220 | 5/28/2019 | 5/28/2019 |  | (G) Heteromonocycle [(alkylalkylidene)bis(substituted carbomoncycle)]bis-, polymer with alkyl isocyanate, alkenoate (ester).
P-18-0277 | 5/16/2019 | 5/15/2019 |  | (G) Polyacrylatepolymer, sodium salt.
P-18-0305 | 5/24/2019 | 5/11/2019 |  | (G) Alkenoic acid, alkyl-,alkyl ester, polymer with alkyl alkenoate, substituted heteromonocycycle, substituted carbomonocycle, substituted alkanediol and alkenoic acid, alkali metal salt,.
P-19-0032 | 5/10/2019 | 4/25/2019 |  | (G) Carbonic dichloride, polymer with 4,4′-(1-methylethylidene)bis[phenol] ester, polymer with tetrol and polyether tetrol.
P-19-0035 | 5/22/2019 | 5/21/2019 |  | (S) Acetamide, 2-(4-methylphenoxy)-n-1h-pyrazol-3-yl-n-(2-thienylmethyl)-.
P-19-0037 | 5/3/2019 | 4/15/2019 |  | (G) D-glucaric acid, mixed alkali metal salt.
P-19-0045 | 5/22/2019 | 4/29/2019 |  | (G) Non-metal tetrakis (hydroxyalkyl)-, halide, polymer with amide oxidized,.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 05/01/2019 to 05/31/2019
Case No. | Received date | Type of test information | Chemical substance
P-14-0712 | 5/13/2019 | Quarterly submittal Testing of Substance (EPA Method 8290A), Analytical report | (G) waste plastics, pyrolyzed, C5-55 fraction.
P-16-0289 | 5/3/2019 | Particle Size Analysis | (G) benzene dicarboxylic acid, polymer with alkane dioic acid and aliphatic diamine.
P-16-0404 | 5/7/2019 | Acute Toxicity to the Zebrafish, Danio rerio, Determined Under Static-Renewal Test Conditions (OECD 203) | (G) alkyl ester, 2-({4-[2-(trisubstituted phenyl)azo]-5-acetamido-2-substitutedphenyl}(substituted alkoxy)amino).
P-16-0418 | 5/6/2019 | Acute Toxicity to the Zebrafish, Danio rerio, Determined Under Static-Renewal Test Conditions (OECD 203) | (G) 6-(disubstituted-phenyl azo)-4,7-disubstituted-Quinolinepropanoic acid, alkyl ester.
P-16-0543 | 5/20/2019 | Exposure Monitoring Report | (G) halogenophosphoric acid metal salt.
P-18-0127 | 5/2/2019 | Skin sensitization (OECD 406) Literature: Implementation of the dermal sensitization Quantitative Risk Assessment (QRA) for fragrance ingredients (Api and Vey) Dermal sensitization quantitative risk assessment (QRA) for fragrance ingredients (Api, et al.) | (S) heptane, 2-methoxy-2-methyl-.
P-18-0141 | 5/14/2019 | Acute Inhalation Toxicity Test, Combined Repeated Dose Toxicity Study with the Reproduction/Developmental Toxicity Screening Test (OECD 422), In vitro Skin Irritation: Reconstructed Human Epidermis Test Method (OECD 439) | (G) methyl modified lactam.
P-19-0071 | 5/20/2019 | Mammalian Chromosome Aberration Test (OECD 473), Bacterial Reverse Mutation Test/AMES Assay (OECD 471), Mouse Lymphoma Assay | (G) trimethylolpropane, alkenoic acid, triester.

If you are interested in information that is not included in these tables, you may contact EPA's technical information contact or general information contact as described under FOR FURTHER INFORMATION CONTACT to access additional non-CBI information that may be available.

Authority: 15 U.S.C. 2601 et seq.

Dated: June 27, 2019.
Megan Carroll,
Acting Director, Information Management Division, Office of Pollution Prevention and Toxics.

[FR Doc. 2019-14523 Filed 7-8-19; 8:45 am]

BILLING CODE 6560-50-P